FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202)-523-5793 or tradeanalysis@fmc.gov.

Agreement No.: 012457-001.

Agreement Name: Siem Car Carriers AS/“K” Line Space Charter Agreement.

Parties: Kawasaki Kisen Kaisha, Ltd. And Siem Car Carriers AS.

Filing Party: Ashley Craig; Venable LLP.

Synopsis: The amendment revises the scope of the authority of the Agreement to remove joint procurement and joint negotiation authority.

Proposed Effective Date: 9/30/2021.

Location: https://www2.fmc.gov/FMC.Agreements.Web/Public/AgreementHistory/1943.

Agreement No.: 201369.

Agreement Name: ONE/OOCL Slot Exchange Agreement.

Parties: Ocean Network Express Pte. Ltd.; and Orient Overseas Container Line Limited.

Filing Party: Joshua Stein; Cozen O'Connor.

Synopsis: The amendment would authorize the parties to exchange slots on their respective services in the between ports in Japan and The People's Republic of China on the one hand, and U.S. ports in the Pacific coast range on the other hand. It would also authorize the parties to enter into cooperative working arrangements in connection therewith.

Proposed Effective Date: 10/1/2021.

Location: https://www2.fmc.gov/FMC.Agreements.Web/Public/AgreementHistory/50503.

Agreement No.: 201370.

Agreement Name: Shanghai Jinjiang Shipping (Group) Co., Ltd and C. U. Lines Limited Slot Charter Exchange Agreement.

Parties: Shanghai Jinjiang Shipping (Group) Co., Ltd. and C. U. Lines Limited.

Filing Party: Neal Mayer; Hoppel, Mayer & Coleman.

Synopsis: The Agreement authorizes the parties to jointly operate a service string in the trade between China and the U.S. Pacific Coast.

Proposed Effective Date: 8/18/2021.

Location: https://www2.fmc.gov/FMC.Agreements.Web/Public/AgreementHistory/50505.

Agreement No.: 201371.

Agreement Name: Transfar/SJJ Space Charter Agreement.

Parties: Transfar Shipping Pte. Ltd. and Shanghai Jinjiang Shipping (Group) Co., Ltd.

Filing Party: Neal Mayer; Hoppel, Mayer & Coleman.

Synopsis: The Agreement authorizes Transfar to charter space to Shanghai Jinjiang in the trade between China and the U.S. Pacific Coast.

Proposed Effective Date: 8/18/2021.

Location: https://www2.fmc.gov/FMC.Agreements.Web/Public/AgreementHistory/50506.

Agreement No.: 011075-081.

Agreement Name: Central America Discussion Agreement.

Parties: King Ocean Services Limited; Seaboard Marine, Ltd.; Great White Fleet Corp.; Dole Ocean Cargo Express, LLC; Crowley Latin America Services, LLC, and Tropical Shipping & Construction Company Limited, LLC.

Filing Party: Wayne Rohde; Cozen O'Connor.

Synopsis: The amendment adds Tropical Shipping & Construction Company Limited, LLC as a party to the agreement and adds a new Article 5.07 clarifying the authority of the parties with respect to “certain covered services.”

Proposed Effective Date: 10/2/2021.

Location: https://www2.fmc.gov/FMC.Agreements.Web/Public/AgreementHistory/1332.

Dated: August 20, 2021.
Rachel Dickon,
Secretary.

[FR Doc. 2021-18288 Filed 8-24-21; 8:45 am]

BILLING CODE 6730-02-P